DEPARTMENT OF THE INTERIOR

Fish and Wildlife Service

[FWS-R2-ES-2008-N0023, 21012-11130000-C4]

Endangered and Threatened Wildlife and Plants; 5-Year Reviews of 28 Southwestern Species

AGENCY: Fish and Wildlife Service, Interior.

ACTION: Notice of reviews.

SUMMARY: We, the U.S. Fish and Wildlife Service (Service), announce 5-year reviews of 28 southwestern species listed under the Endangered Species Act of 1973 (Act). The purpose of reviews conducted under this section of the Act is to ensure that the classification of species as threatened or endangered on the List of Endangered and Threatened Wildlife and Plants is accurate. The 5-year review is an assessment of the best scientific and commercial data available at the time of the review.

DATES: To allow adequate time to conduct this review, information submitted for our consideration must be received on or before June 18, 2008. However, we will continue to accept new information about any listed species at any time.

ADDRESSES: Information submitted on these species should be sent to the Service at the addresses listed under “Public Comments” in the SUPPLEMENTARY INFORMATION section. Information received in response to this notice of review will be available for public inspection by appointment, during normal business hours, at the same addresses.

FOR FURTHER INFORMATION CONTACT: Contact the appropriate office named in “Public Comments” for species-specific information.

SUPPLEMENTARY INFORMATION:

Why is a 5-year review conducted?

Section 4(c)(2)(A) of the Act (16 U.S.C. 1531 et seq.) requires that we conduct a review of listed species at least once every 5 years. We are then, under section 4(c)(2)(B) and the provisions of subsections (a) and (b), to determine, on the basis of such a review, whether or not any species should be removed (delisted) from the List of Endangered and Threatened Wildlife and Plants (50 CFR 17.12), or reclassified from endangered to threatened (downlisted), or from threatened to endangered (uplisted).

The 5-year review is an assessment of the best scientific and commercial data available at the time of the review. Therefore, we are requesting submission of any new information (best scientific and commercial data) on the following 28 species since their original listings as either endangered (Arizona hedgehog cactus, Big Bend gambusia, Brady pincushion cactus, Clear Creek gambusia, Comal Springs dryopid beetle, Comal Springs riffle beetle, fountain darter, Kearney blue star, Leon Springs pupfish, Peck's Cave amphipod, San Marcos gambusia, Sonoran pronghorn, Socorro isopod, Socorro springsnail, south Texas ambrosia, southwestern willow flycatcher, Terlingua Creek cat's-eye, Texas ayenia, Texas blind salamander, Texas wild-rice, Tobusch fishhook cactus, Yaqui chub, and Yaqui topminnow) or threatened (beautiful shiner, Hinckley oak, San Marcos salamander, Sonora chub, and Yaqui catfish). If the present classification of any of these species is not consistent with the best scientific and commercial information available, the Service will recommend whether or not a change is warranted in the Federal classification of that species. Any change in Federal classification would require a separate rule-making process.

Our regulations at 50 CFR 424.21 require that we publish a notice in the Federal Register announcing those species currently under active review. This notice announces our active review of the 28 species listed in Table 1.

What information is considered in the review?

A 5-year review considers all new information available at the time of the review. These reviews will consider the best scientific and commercial data that has become available since the current listing determination or most recent status review of each species, such as:

A. Species biology, including but not limited to population trends, distribution, abundance, demographics, and genetics;

B. Habitat conditions, including but not limited to amount, distribution, and suitability;

C. Conservation measures that have been implemented to benefit the species;

D. Threat status and trends (see five factors under heading “How do we determine whether a species is endangered or threatened?”); and

E. Other new information, data, or corrections, including but not limited to taxonomic or nomenclatural changes, identification of erroneous information contained in the List of Endangered and Threatened Wildlife and Plants, and improved analytical methods.

How are these species currently listed?

The List of Endangered and Threatened Wildlife and Plants (List) is found in 50 CFR 17.11 (wildlife) and 17.12 (plants). Amendments to the List through final rules are published in the Federal Register. The List is also available on our Internet site at http://www.fws.gov/endangered/wildlife.html. In Table 1 below, we provide a summary of the listing information for the species under active review.

Table 1.—Summary of the Listing Information
Common name | Scientific name | Status | Where listed | Final listing rule
Arizona hedgehog cactus | Echinocereus triglochidiatus var. arizonicus | E | AZ | 44 FR 61556
Beautiful shiner | Cyprinella formosa | T | AZ, NM | 49 FR 34490
Big Bend gambusia | Gambusia gaigei | E | TX | 32 FR 4001
Brady pincushion cactus | Pediocactus bradyi | E | AZ | 44 FR 61784
Clear Creek gambusia | Gambusia heterochir | E | TX | 32 FR 4001
Comal Springs dryopid beetle | Stygoparnus comalensis | E | TX | 62 FR 66295
Comal Springs riffle beetle | Heterelmis comalensis | E | TX | 62 FR 66295
Fountain darter | Etheostoma fonticola | E | TX | 35 FR 16047
Hinckley oak | Quercus hinckleyi | T | TX | 53 FR 32824
Kearney blue star | Amsonia kearneyana | E | AZ | 54 FR 2131
Leon Springs pupfish | Cyprinodon bovinus | E | TX | 45 FR 54678
Peck's Cave amphipod | Stygobromus (=Stygonectes) pecki | E | TX | 62 FR 66295
San Marcos gambusia | Gambusia georgei | E | TX | 45 FR 47355
San Marcos salamander | Eurycea nana | T | TX | 45 FR 47355
Sonora chub | Gila ditaenia | T | AZ | 51 FR 16042
Sonoran pronghorn | Antilocapra americana sonoriensis | E | AZ | 32 FR 4001
Socorro isopod | Thermosphaeroma thermophilus | E | NM | 43 FR 12690
Socorro springsnail | Pyrgulopsis neomexicana | E | NM | 56 FR 49646
South Texas ambrosia | Ambrosia cheiranthifolia | E | TX | 59 FR 43648
Southwestern willow flycatcher | Empidonax traillii extimus | E | AZ, CA, CO, NV, NM, TX, UT | 60 FR 10693
Terlingua Creek cat's-eye | Cryptantha crassipes | E | TX | 56 FR 49634
Texas ayenia | Ayenia limitaris | E | TX | 59 FR 43648
Texas blind salamander | Typhlomolge rathbuni | E | TX | 32 FR 4001
Texas wild-rice | Zizania texana | E | TX | 43 FR 17910
Tobusch fishhook cactus | Ancistrocactus tobuschii | E | TX | 44 FR 64736
Yaqui catfish | Ictalurus pricei | T | AZ | 49 FR 34490
Yaqui chub | Gila purpurea | E | AZ | 49 FR 34490
Yaqui topminnow | Poeciliopsis occidentalis sonoriensis | E | AZ, NM | 32 FR 4001

Definitions Related to This Notice

The following definitions are provided to assist those persons who contemplate submitting information regarding the species being reviewed:

A. Species includes any species or subspecies of fish, wildlife, or plant, and any distinct population segment of any species of vertebrate, which interbreeds when mature.

B. Endangered means any species that is in danger of extinction throughout all or a significant portion of its range.

C. Threatened means any species that is likely to become an endangered species within the foreseeable future throughout all or a significant portion of its range.

How do we determine whether a species is endangered or threatened?

Section 4(a)(1) of the Act establishes that we determine whether a species is endangered or threatened based on one or more of the five following factors:

A. The present or threatened destruction, modification, or curtailment of its habitat or range;

B. Overutilization for commercial, recreational, scientific, or educational purposes;

C. Disease or predation;

D. The inadequacy of existing regulatory mechanisms; or

E. Other natural or manmade factors affecting its continued existence.

Section 4(a)(1) of the Act requires that our determination be made on the basis of the best scientific and commercial data available.

What could happen as a result of this review?

If we find that there is new information concerning any of the 28 species listed in Table 1 indicating a change in classification may be warranted, we may propose a new rule that could do one of the following: (a) Reclassify the species from endangered to threatened; (b) reclassify the species from threatened to endangered; or (c) remove the species from the List. If we determine that a change in classification is not warranted, then these species will remain on the List under their current status.

Public Comments

Information regarding the Brady pincushion cactus (Pediocactus bradyi), Arizona hedgehog cactus (Echinocereus triglochidiatus var. arizonicus), Kearney blue star (Amsonia kearneyana), southwestern willow flycatcher (Empidonax traillii extimus), and Sonora chub (Gila ditaenia) should be sent to the Field Supervisor, Attention 5-year Review, U.S. Fish and Wildlife Service, Arizona Ecological Services Field Office, 2321 West Royal Palm Road, Suite 103, Phoenix, AZ 85021. The office phone number is 602-242-0210.

Information regarding Sonoran pronghorn (Antilocapra americana sonoriensis) should be sent to the Refuge Manager, Attention 5-year Review, Cabeza Prieta National Wildlife Refuge, 1611 North Second Avenue, Ajo, Arizona 85321. The office phone number is 520/387-6483, and Web address is: http://www.fws.gov/southwest/refuges/arizona/cabeza/index.html.

Information regarding beautiful shiner (Cyprinella formosa), Yaqui catfish (Ictalurus pricei), Yaqui chub (Gila purpurea), and Yaqui topminnow (Poeciliopsis occidentalis sonoriensis) should be sent to the Refuge Manager, Attention 5-year Review, San Bernardino National Wildlife Refuge, P.O. Box 3509, Douglas, Arizona 85607. The office phone number is 520/364-2104, and Web address is: http://www.fws.gov/southwest/refuges/arizona/sanbernardino.html.

Information regarding the Texas blind salamander (Typhlomolge rathbuni), fountain darter (Etheostoma fonticola), Texas wild-rice (Zizania texana), San Marcos gambusia (Gambusia georgei), San Marcos salamander (Eurycea nana), Peck's Cave amphipod (Stygobromus (=Stygonectes) pecki), Comal Springs dryopid beetle (Stygoparnus comalensis), Comal Springs riffle beetle (Heterelmis comalensis), Leon Springs pupfish (Cyprinodon bovinus), Tobusch fishhook cactus (Ancistrocactus tobuschii), Terlingua Creek cat's-eye (Cryptantha crassipes), Hinckley oak (Quercus hinckleyi), Big Bend gambusia (Gambusia gaigei), and Clear Creek gambusia (Gambusia heterochir) should be sent to the Field Supervisor, Attention 5-year Review, U.S. Fish and Wildlife Service, Austin Ecological Services Field Office, 10711 Burnet Road, Suite 200, Austin, Texas 78758. The office phone number is 512-490-0057.

Information regarding Socorro isopod (Thermosphaeroma thermophilus) and Socorro springsnail (Pyrgulopsis neomexicana) should be sent to the Field Supervisor, Attention 5-year Review, U.S. Fish and Wildlife Service, New Mexico Ecological Services Field Office, 2105 Osuna Road NE., Albuquerque, NM 87113. The office phone number is 505-346-2525.

Information regarding Texas ayenia (Ayenia limitaris) and south Texas ambrosia (Ambrosia cheiranthifolia) should be sent to the Field Supervisor, Attention 5-year Review, U.S. Fish and Wildlife Service c/o TAMU-CC, Ecological Services, 6300 Ocean Drive, Unit 5837, Corpus Christi, TX 78412. The office phone number is 361-994-9005.

Public Solicitation of New Information

We request any new information concerning the status of the 28 species listed in Table 1. See “What information is considered in the review?” heading for specific criteria. Information submitted should be supported by documentation such as maps, bibliographic references, methods used to gather and analyze the data, and/or copies of any pertinent publications, reports, or letters by knowledgeable sources. Before including your address, phone number, e-mail address, or other personal identifying information in your comments, you should be aware that your entire comment—including your personal identifying information—may be made publicly available at any time. While you can ask us in your comment to withhold your personal identifying information from public review, we cannot guarantee that we will be able to do so.

Authority: This document is published under the authority of the Endangered Species Act (16 U.S.C. 1531 et seq.).

Dated: January 23, 2008.
Christopher T. Jones,
Acting Regional Director, Region 2.

[FR Doc. E8-5632 Filed 3-19-08; 8:45 am]

BILLING CODE 4310-55-P